NUCLEAR REGULATORY COMMISSION

Draft Regulatory Guide: Issuance, Availability

The U.S. Nuclear Regulatory Commission (NRC) has issued for public comment a draft revision to an existing guide in the agency's Regulatory Guide Series. This series has been developed to describe and make available to the public such information as methods that are acceptable to the NRC staff for implementing specific parts of the NRC's regulations, techniques that the staff uses in evaluating specific problems or postulated accidents, and data that the staff needs in its review of applications for permits and licenses.

The draft Revision 4 of Regulatory Guide 1.97, entitled “Criteria for Accident Monitoring Instrumentation for Nuclear Power Plants,” is temporarily identified by its task number, DG-1128, which should be mentioned in all related correspondence. Like its predecessors, this proposed revision describes a method that the NRC staff considers acceptable for use in complying with the agency's regulations with respect to satisfying criteria for accident monitoring instrumentation in nuclear power plants. Specifically, the method described in this regulatory guide relates to General Design Criteria 13, 19, and 64, as set forth in Appendix A to Title 10, Part 50, of the Code of Federal Regulations (10 CFR Part 50), “Domestic Licensing of Production and Utilization Facilities.”

This proposed revision of Regulatory Guide 1.97 represents an ongoing evolution in the nuclear industry's thinking and approaches with regard to accident monitoring systems for the Nation's nuclear power plants. Specifically, this revision endorses (with certain clarifying regulatory positions specified in Section C of Draft Regulatory Guide DG-1128) the “Criteria for Accident Monitoring Instrumentation for Nuclear Power Generating Stations,” which the Institute of Electrical and Electronics Engineers (IEEE) promulgated as IEEE Std. 497-2002.

This revised regulatory guide is intended for licensees of new nuclear power plants.¹ Previous revisions of this regulatory guide remain in effect for licensees of current operating reactors,¹ who are unaffected by this proposed revision. However, licensees of current operating reactors may voluntarily convert their entire accident monitoring program to the criteria in this proposed revision.

¹ The terms “new nuclear power plant” and “new plant” refer to any nuclear power plant for which the licensee obtained an operating license after the NRC issued Revision 4 of Regulatory Guide 1.97. The terms “current operating reactor” and “current plant” refer to any nuclear plant for which the licensee obtained an operating license before the NRC issued Revision 4 of Regulatory Guide 1.97.

The NRC staff is soliciting comments on Draft Regulatory Guide DG-1128, and comments may be accompanied by relevant information or supporting data. Please mention DG-1128 in the subject line of your comments. Comments on this draft regulatory guide submitted in writing or in electronic form will be made available to the public in their entirety through the NRC's Agencywide Documents Access and Management System (ADAMS). Personal information will not be removed from your comments. You may submit comments by any of the following methods.

Mail comments to: Rules and Directives Branch, Office of Administration, U.S. Nuclear Regulatory Commission, Washington, DC 20555-0001.

Email comments to: NRCREP@nrc.gov. You may also submit comments via the NRC's rulemaking Web site at http://ruleforum.llnl.gov. Address questions about our rulemaking Web site to Carol A. Gallagher (301) 415-5905; e-mail CAG@nrc.gov.

Hand-deliver comments to: Rules and Directives Branch, Office of Administration, U.S. Nuclear Regulatory Commission, 11555 Rockville Pike, Rockville, Maryland 20852, between 7:30 a.m. and 4:15 p.m. on Federal workdays.

Fax comments to: Rules and Directives Branch, Office of Administration, U.S. Nuclear Regulatory Commission at (301) 415-5144.

Requests for technical information about Draft Regulatory Guide DG-1128 may be directed to George M. Tartal at (301) 415-0016 or by email to GMT1@nrc.gov.

Comments would be most helpful if received by October 14, 2005. Comments received after that date will be considered if it is practical to do so, but the NRC is able to ensure consideration only for comments received on or before this date. Although a time limit is given, comments and suggestions in connection with items for inclusion in guides currently being developed or improvements in all published guides are encouraged at any time.

Electronic copies of the draft regulatory guide are available through the NRC's public Web site under Draft Regulatory Guides in the Regulatory Guides document collection of the NRC's Electronic Reading Room at http://www.nrc.gov/reading-rm/doc-collections/. Electronic copies are also available in the NRC's Agencywide Documents Access and Management System (ADAMS) at http://www.nrc.gov/reading-rm/adams.html, under Accession #ML052150210. Note, however, that the NRC has temporarily limited public access to ADAMS so that the agency can complete security reviews of publicly available documents and remove potentially sensitive information. Please check the NRC's Web site for updates concerning the resumption of public access to ADAMS.

In addition, regulatory guides are available for inspection at the NRC's Public Document Room (PDR), which is located at 11555 Rockville Pike, Rockville, Maryland; the PDR's mailing address is USNRC PDR, Washington, DC 20555-0001. The PDR can also be reached by telephone at (301) 415-4737 or (800) 397-4205, by fax at (301) 415-3548, and by e-mail to PDR@nrc.gov. Requests for single copies of draft or final guides (which may be reproduced) or for placement on an automatic distribution list for single copies of future draft guides in specific divisions should be made in writing to the U.S. Nuclear Regulatory Commission, Washington, DC 20555-0001, Attention: Reproduction and Distribution Services Section; by e-mail to DISTRIBUTION@nrc.gov; or by fax to (301) 415-2289. Telephone requests cannot be accommodated.

Regulatory guides are not copyrighted, and Commission approval is not required to reproduce them. (5 U.S.C. 552(a))

Dated at Rockville, Maryland, this 15th day of August, 2005.
For the Nuclear Regulatory Commission.
Richard J. Barrett,
Director, Division of Engineering Technology, Office of Nuclear Regulatory Research.

[FR Doc. E5-4647 Filed 8-24-05; 8:45 am]

BILLING CODE 7590-01-P